DEPARTMENT OF ENERGY

Federal Energy Regulatory Commission

[Docket No. ER06-615-004]

California Independent System Operator Corporation; Notice of Proposal for Allocating Resource Adequacy Import Capacity

December 12, 2006.

On December 11, 2006, the California Independent System Operator Corporation (CAISO) made an informational filing regarding the methodology for allocating resource adequacy import capacity in the above-docketed proceeding. By this notice, the date for filing comments on the CAISO's proposal, or for raising any additional issues regarding the allocation of resource adequacy import capacity, is up to and including January 2, 2007. Comments on the CAISO's proposal and any additional issues raised will be discussed at a future technical conference.¹

Magalie R. Salas,
Secretary.

¹ See Cal. Indep. Sys. Operator Corp., 116 FERC ¶ 61,274, at P 1226 (2006).

[FR Doc. E6-21551 Filed 12-18-06; 8:45 am]

BILLING CODE 6717-01-P